DEPARTMENT OF AGRICULTURE

Forest Service

36 CFR Part 242

DEPARTMENT OF THE INTERIOR

Fish and Wildlife Service

50 CFR Part 100

[Docket No. FWS-R7-SM-2018-0013; FF07J00000 FXFR13350700640 223]

RIN 1018-BC96

Subsistence Management Regulations for Public Lands in Alaska—Applicability and Scope; Tongass National Forest Submerged Lands; Correction

AGENCY: Forest Service, Agriculture; Fish and Wildlife Service, Interior.

ACTION: Proposed rule; correction.

SUMMARY: On May 12, 2022, we published a proposed rule on regulatory proceedings pertaining to submerged lands in the Tongass National Forest. The proposed rule contained incorrect dates in the preamble. This document corrects those dates.

DATES: The proposed rule incorrectly stated that Federal Subsistence Board public meetings to discuss and evaluate the proposed regulatory changes would take place April 12 through 15, 2022. With this document, we correct the meeting dates. The correct dates are January 31 through February 2, 2023.

ADDRESSES: The proposed rule is in Docket No. FWS-R7-SM-2018-0013 on https://www.regulations.gov.

FOR FURTHER INFORMATION CONTACT: Chair, Federal Subsistence Board, c/o U.S. Fish and Wildlife Service, Attention: Sue Detwiler, Office of Subsistence Management; (907) 786-3888 or subsistence@fws.gov. For questions specific to National Forest System lands, contact Gregory Risdahl, Regional Subsistence Program Leader, USDA, Forest Service, Alaska Region; (907) 302-7354 or gregory.risdahl@usda.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Correction

In the proposed rule document FR Doc. 2022-10053 (87 FR 29061, May 12, 2022), on page 29061, second column, under DATES, correct the first sentence to read as follows: Public meeting: The Federal Subsistence Board will discuss and evaluate proposed regulatory changes during public meetings in Anchorage, AK, on January 31 through February 2, 2023.

On page 29062, second column, under Public Review Process—Comments and Public Meetings, correct the first sentence of the second paragraph to read as follows: The Board will discuss and evaluate submitted comments and public testimony on this proposed rule during public meetings scheduled for January 31 through February 2, 2023, in Anchorage, Alaska.

Gregory Risdahl,
Subsistence Program Leader, USDA-Forest Service.
Madonna Baucum,
Regulations and Policy Chief, Division of Policy, Economics, Risk Management, and Analytics, Joint Administrative Operations, U.S. Fish and Wildlife Service.

[FR Doc. 2022-11781 Filed 6-3-22; 8:45 am]

BILLING CODE 4333-15-P; 3410-11-P